ENVIRONMENTAL PROTECTION AGENCY

[FRL-7392-3]

Asthma Research Strategy

AGENCY: Environmental Protection Agency.

ACTION: Notice of availability of a final document.

SUMMARY: The U.S. Environmental Protection Agency (EPA) is announcing the availability of a final document, Asthma Research Strategy, EPA 600/R-01/061. The Asthma Research Strategy serves to guide the planning of EPA research efforts led by the Office of Research and Development (ORD) to address the significant issues of exposures, effects, risk assessment, and risk management of environmental pollutants relevant to asthma.

ADDRESSES: A limited number of copies of the Asthma Research Strategy are available from EPA's National Service Center for Environmental Publications (NSCEP) in Cincinnati, Ohio (telephone: 1-800-490-9198 or 513-489-8190). Please provide the title and the EPA number when ordering from NSCEP. Internet users may download a copy from EPA's ORD home page at http://www.epa.gov/ORD.

FOR FURTHER INFORMATION CONTACT: James Raub, National Center for Environmental Assessment/Research Triangle Park Office (MD-B-243-01), U.S. Environmental Protection Agency, Research Triangle Park, NC 27711; telephone: 919-541-4157; facsimile: 919-541-1818; e-mail: raub.james@epa.gov.

SUPPLEMENTARY INFORMATION: The Asthma Research Strategy was developed in light of increasing rates of asthma, particularly in children, in the United States. Since the EPA is required to set pollutant standards to protect susceptible populations, a coordinated research effort is needed to study environmental pollutants that influence the incidence and severity of asthma. EPA has developed a plan to coordinate research efforts aimed at addressing the following issues: Factors contributing to the induction and exacerbation of asthma (e.g., combustion-related products, bioaerosols, and air toxics); susceptibility factors contributing to asthma (e.g., genetics, health status, socioeconomic status, residence and exposure history, and lifestyle and activity patterns); and risk assessment and risk management of environmental pollutants relevant to asthma. The Asthma Research Strategy identifies and prioritizes the research needed to provide information to close the gaps in our knowledge of asthma and to control environmental factors that contribute to the prevalence and severity of asthma. The Strategy supplements and expands on other U.S. agency efforts to better understand this complex disease.

Asthma is characterized by chronic airway inflammation, mucus secretion, airway remodeling, and reversible airway obstruction. The disease has a definite genetic component, and can be caused by a variety of factors. In susceptible individuals, the inflammation causes recurrent episodes of wheezing, breathlessness, chest tightness, and cough particularly at night and/or early morning. Airflow obstruction usually associated with these symptoms is partly reversible either spontaneously or with treatment. Inflammation also causes an increase in airway responsiveness to a variety of stimuli. Most types of asthma are linked to allergic responses to common aeroallergens present in the indoor and outdoor environment. Common allergens include: house-dust mites, cockroaches, animal secretions, pollens, and molds. Exacerbation of asthma may occur with subsequent re-exposure to allergens or by exposure to a number of nonspecific triggers such as respiratory viruses, tobacco smoke, or certain air pollutants.

EPA has prepared the Asthma Research Strategy to strengthen the scientific foundation of the EPA risk assessments and risk management decisions. Agency research strategies provide a framework of research needs and priorities to guide its programs over the next 5 to 10 years. The Strategy includes a stable, long-term, core program of research in hazard identification, dose-response and exposure assessment, and risk reduction, as well as problem-oriented research that addresses current critical needs identified by EPA program offices and regions.

This Asthma Research Strategy was subjected to external peer review by independent scientific experts. The final Strategy reflects the comments of both internal and external peer review.

Dated: October 2, 2002.
Paul Gilman,
Assistant Administrator for Research and Development.

[FR Doc. 02-27829 Filed 10-31-02; 8:45 am]

BILLING CODE 6560-50-P